FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 3, 2017.

A. Federal Reserve Bank of Atlanta (Kathryn Haney, Director of Applications) 1000 Peachtree Street NE., Atlanta, Georgia 30309. Comments can also be sent electronically to Applications.Comments@atl.frb.org:

1. SSX2, LLC, Tallahassee, Florida; to be added to the Smith family control group, which controls Capital City Bank Group, Inc., and its subsidiary, Capital City Bank, both of Tallahassee, Florida.

Board of Governors of the Federal Reserve System, October 13, 2017.
Michele Taylor Fennell,
Assistant Secretary of the Board.

[FR Doc. 2017-22621 Filed 10-17-17; 8:45 am]

BILLING CODE P